DEPARTMENT OF ENERGY

Federal Energy Regulatory Commission

[Docket No. RP00-353-000]

Black Marlin Pipe Line Company; Notice of Proposed Changes in FERC Gas Tariff

June 21, 2000.

Take notice that on June 16, 2000, Black Marlin Pipe Line Company (BMPL) tendered for filing to become part of its FERC Gas Tariff, first Revised Volume No. 1, the following tariff sheets:

Second Revised Sheet No. 213B,

Third Revised Sheet No. 213D, and

Third Revised Sheet No. 217

BMPL states that on February 9, 2000, the Commission issued its final rule regarding the regulation of short-term interstate natural gas transportation services in Docket Nos. RM98-10-000 and RM-12-000 (Order No. 637). Subsequent to issuing Order No. 637, on May 19, 2000, the Commission issued an Order on Rehearing (Order No. 637-A) which generally affirmed the provisions adopted in Order No. 637. In the instant filing, BMPL is filing to implement provisions of Order Nos. 637 and 637-A regarding the waiver of the rate ceiling for short-term capacity release transactions and the prospective limitations on the availability of the Right-of-First Refusal (ROFR).

BMPL states that Order No. 637 provides for a waiver of the rate ceiling for short-term (less than one year) capacity release transactions until September 30, 2002 and requires pipelines to file tariff revisions within 180 days of the effective date of the rule, i.e., March 26, 2000, to remove tariff provisions which are inconsistent with the removal of the rate ceiling. Accordingly, BMPL is filing revised tariff sheets as required.

BMPL also states it is filing revised tariff sheets implementing portions of Order Nos. 637 and 637-A which provide that the Right-of-First Refusal be applicable to grandfathered discounted contracts and prospectively only to contracts at the maximum tariff rate having a term of twelve consecutive months or longer of service.

Any person desiring to be heard or to protest said filing should file a motion to intervene or a protest with the Federal Energy Regulatory Commission, 888 First Street, NE., Washington, DC 20426, in accordance with sections 385.214 or 385.211 of the Commission's rules and regulations. All such motions or protests must be filed in accordance with Section 154.210 of the Commission's regulations. Protests will be considered by the Commission in determining the appropriate action to be taken, but will not serve to make protestants parties to the proceedings. Any person wishing to become a party must file a motion to intervene. Copies of this filing are on file with the Commission and are available for public inspection in the Public Reference room. This filing may be viewed on the web at http://www.ferc.fed.us/online/rims.htm (call 202-208-2222 for assistance).

David P. Boergers,
Secretary.

[FR Doc. 00-16139 Filed 6-26-00; 8:45 am]

BILLING CODE 6717-01-M